COMMISSION ON CIVIL RIGHTS

Notice of Public Meeting of the California Advisory Committee; Update

AGENCY: Commission on Civil Rights.

ACTION: Notice; update meeting date.

SUMMARY: The Commission on Civil Rights published a notice in the Federal Register on Monday, March 20, 2023, concerning a meeting of the California Advisory Committee. The meeting date has since changed.

FOR FURTHER INFORMATION CONTACT: Brooke Peery (DFO), bpeery@usccr.gov.

Correction: In the Federal Register on Tuesday, March 20, 2023, in FR Document Number 2023-16586, on pages 16586 and 16587, third and first columns, change the meeting date from August 11, 2023, to August 18, 2023. In addition, the link to join will remain the same: https://www.zoomgov.com/meeting/register/vJItdemgrTIoH3ECxG_1nKQsiTklnVcYIUE.

Dated: July 21, 2023.
David Mussatt,
Supervisory Chief, Regional Programs Unit.

[FR Doc. 2023-15883 Filed 7-26-23; 8:45 am]

BILLING CODE P